ENVIRONMENTAL PROTECTION AGENCY

[FRL-8480-5]

Notice of Government-Owned Invention's Availability for Exclusive License: Biomass Concentrator Reactor

AGENCY: Environmental Protection Agency (EPA).

ACTION: Notice.

SUMMARY: EPA hereby gives notice of the option to exclusively license an invention for a specific field of use. Such a license would be royalty-bearing, revocable, and limited to a field of use associated with the invention described and claimed in the patent listed below, all U.S. patents issuing therefrom, and all reexamined and reissued patents granted in the United States in connection with such patent. The patent is: U.S. Patent No. 6,821,425, entitled “Biomass Concentrator Reactor,” issued November 23, 2004.

DATES: EPA may execute one or more exclusive license(s) beginning November 26, 2007, and following a second notice indicating the EPA's intent to grant exclusive license(s), identifying the specific invention and the prospective licensee(s).

ADDRESSES: Comments to this notice must be submitted to Laura Scalise, Patent Attorney, Office of General Counsel (Mail Code 2377A), U.S. Environmental Protection Agency, 1200 Pennsylvania Avenue, NW., Washington, DC 20460.

FOR FURTHER INFORMATION CONTACT: Laura Scalise, (202) 564-8303.

SUPPLEMENTARY INFORMATION: This notice is issued pursuant to 37 CFR 404.7(a)(1), which requires an agency to issue both a notice of availability of an invention for exclusive licensing, as well as a notice of intent to grant an exclusive license. Pursuant to 35 U.S.C. 207, EPA is authorized to grant licenses on federally-owned inventions, in exchange for royalties and other considerations.

The proposed exclusive license will contain appropriate terms, limitations, and conditions in accordance with the limitations and conditions of 35 U.S.C. 209 and 37 CFR 404.5 and 404.7 of the U.S. Government patent licensing regulations.

Interested parties should submit to EPA, at the address below, written interest in a license or written objections to license grants, together with supporting documentation. The documentation from interested parties or from objecting parties having an interest in practicing the above patent application should include an application for an exclusive or nonexclusive license with the information set forth in 37 CFR 404.8, including the license applicant's plan for development or marketing of the invention. The EPA Patent Counsel and other EPA officials will review all written responses and then make recommendations on a final decision to the Director of the National Risk Management Research Laboratory, who has been delegated the authority to issue patent licenses under EPA Delegation 1-55.

Dated: September 27, 2007.
Robert A. Friedrich,
Acting Associate General Counsel, General Law Office, Office of General Counsel.

[FR Doc. E7-20060 Filed 10-10-07; 8:45 am]

BILLING CODE 6560-50-P